DEPARTMENT OF ENERGY

Federal Energy Regulatory Commission

[Docket Nos. EL01-10-000 and EL01-10-001]

Puget Sound Energy, Inc., Complainant, v. All Jurisdictional Sellers of Energy and/or Capacity at Wholesale Into Electric Energy and/or Capacity Markets in the Pacific Northwest, Including Parties to the Western Systems Power Pool Agreement, Respondents; Notice of Opportunity for Public Comment on Administrative Law Judge's Recommendations and Proposed Findings of Fact

October 10, 2001.

Take notice that on September 24, 2001, Judge Carmen A. Cintron, the Presiding Administrative Law Judge in the captioned proceeding, issued Recommendations and Proposed Findings of Fact in a preliminary evidentiary proceeding to develop a factual record on whether there may have been unjust and unreasonable charges for “spot market” bilateral sales in the Pacific Northwest for the period beginning December 25, 2000 through June 20, 2001. Puget Sound Energy, Inc. v. All Jurisdictional Sellers of Energy and/or Capacity at Wholesale Into Electric Energy and/or Capacity Markets in the Pacific Northwest, Including Parties to the Western Systems Power Pool Agreement, 96 FERC ¶ 63,044 (2001). The Commission is providing interested parties an opportunity to submit comments on Judge Cintron's Recommendations and Proposed Findings of Fact, as discussed below.

Any person desiring to be heard concerning Judge Cintron's Recommendations and Proposed Findings of Fact should file a motion to intervene or comments with the Federal Energy Regulatory Commission, 888 First Street, NE., Washington, DC 20426, in accordance with Rules 211 and 214 of the Commission's Rules of Practice and Procedure (18 CFR 385.211 and 385.214). All such motions and comments must be filed on or before October 31, 2001. Comments will be considered by the Commission to determine the appropriate action to be taken, but will not serve to make commenters parties to the proceedings. Any person wishing to become a party, if it has not already done so, must file a motion to intervene. Judge Cintron's Recommendations and Proposed Findings of Fact may also be viewed on the Internet at http://www.ferc.fed.us/online/rims.htm (call 202-208-2222 for assistance). Comments and interventions may be filed electronically via the Internet in lieu of paper. See 18 CFR 385.2001(a)(1)(iii) and the instructions on the Commission's Web site at http://www.ferc.fed.us/efi/doorbell.htm.

David P. Boergers,
Secretary.

[FR Doc. 01-25942 Filed 10-15-01; 8:45 am]

BILLING CODE 6717-01-P